DEPARTMENT OF JUSTICE

Notice of Lodging of Consent Decree Under Comprehensive Environmental Response, Compensation and Liability Act

Notice is hereby given that on September 10, 2009, a proposed Consent Judgment in United States v. Genesco Inc. No. CV-09-3917, was lodged with the United States District Court for the Eastern District of New York.

The proposed Consent Judgment resolves certain claims of the United States, on behalf of the Environmental Protection Agency (“EPA”), under the Comprehensive Environmental Response, Compensation, and Liability Act (“CERCLA”), 42 U.S.C. 9601 et seq., in connection with the Fulton Avenue Superfund Site located in and around the Village of Garden City Park in Nassau County, New York (“Site”), against defendant Genesco Inc. (“Genesco”). The proposed Consent Judgment requires Genesco to implement the interim groundwater extraction and treatment remedy contained in EPA's September 28, 2007 First Operable Unit (“OU1”) Record of Decision (“ROD”) for the Site.

The proposed Consent Judgment provides that Genesco is entitled to contribution protection as provided by section 113(f)(2) of CERCLA, 42 U.S.C. 9613(f)(2) for matters addressed by the settlement.

The Department of Justice will receive for a period of 30 days from the date of this publication comments relating to the proposed Consent Judgment. Comments should be addressed to the Assistant Attorney General, Environment and Natural Resources Division, and either e-mailed to pubcomment-ees.enrd@usdoj.gov or mailed to P.O. Box 7611, U.S. Department of Justice, Washington, DC 20044-7611, and should refer to: United States v. Genesco Inc., No. CV-09-3917, DOJ Ref. No. 90-11-2-09329.

The proposed Consent Judgment may be examined at the Office of the United States Attorney, Eastern District of New York, 610 Federal Plaza, Central Islip, New York 11722-4454. During the public comment period, the proposed Consent Judgment may also be examined on the following Department of Justice Web site, http://www.usdoj.gov/enrd/Consent_Decrees.html. A copy of the proposed Consent Judgment may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $46.50 (25 cents per page reproduction cost), payable to the U.S. Treasury.

Maureen Katz,
Assistant Chief, Environmental Enforcement Section, Environment and Natural Resources Division.

[FR Doc. E9-22350 Filed 9-16-09; 8:45 am]

BILLING CODE 4410-15-P